DEPARTMENT OF HEALTH AND HUMAN SERVICES

42 CFR Part 5a

RIN 0906-AB17

Removing Outmoded Regulations Regarding the Rural Physician Training Grant Program, Definition of “Underserved Rural Community”

AGENCY: Health Resources and Services Administration (HRSA), HHS.

ACTION: Final rule.

SUMMARY: This action removes the outmoded regulations for the Rural Physician Training Grant Program, Definition of “Underserved Rural Community.” Funding was authorized at section 749B(i) Public Health Service Act for fiscal years 2010-2013, but never appropriated for the Rural Physician Training Grant Program, and the program was not implemented. Therefore, this regulation is no longer relevant, and HRSA suggested the regulations defining underserved rural communities for the Rural Physician Training Grant Program be removed.

DATES: This action is effective July 27, 2018.

FOR FURTHER INFORMATION CONTACT: Sweta Maheshwari J.D., Legislative Analyst, Division of Policy and Shortage Designation, Bureau of Health Workforce, HRSA, 5600 Fishers Lane, Room 11W21A, Rockville, MD 20857, by phone at (301) 945-3527, or by email at smaheshwari@hrsa.gov.

SUPPLEMENTARY INFORMATION: In response to Executive Order 13563, Section 6(a), which urges agencies to repeal existing regulations that are outmoded from the Code of Federal Regulations (CFR), HHS is removing 42 CFR part 5a. HHS believes that there is good cause to bypass notice and comment and proceed to a final rule, pursuant to 5 U.S.C. 553(b)(B). The action is non-controversial, as it merely removes an obsolete provision from the CFR. This rule poses no new substantive requirements on the public. Thus, we view notice and comment as unnecessary.

Background

The Rural Physician Training Grant Program (Program), Definition of “Underserved Rural Community” regulation was issued via an interim final rule with request for comment on May 26, 2010 pursuant to Section 749B(f) of the Public Health Service Act (42 U.S.C. 293m(f)). The regulation has not been updated since it was issued.

Funding was authorized at section 749B(i) (42 U.S.C. 293m(i)) for fiscal years 2010-2013, but was never appropriated for the Program; therefore, it was not implemented. This rule defines “underserved rural communities,” including census track information, Health Professions Shortage Areas (HPSAs), and Medically Underserved Areas (MUAs) for Program purposes. If the Program were to be funded, HRSA would be able to define underserved rural communities for the purpose of the program through policy documents.

Executive Orders 12866, 13563, 13771, and 13777

Executive Orders 12866 and 13563 direct agencies to assess all costs and benefits of available regulatory alternatives and, if regulation is necessary, to select regulatory approaches that maximize net benefits (including potential economic, environmental, public health and safety effects, distributive impacts, and equity). Executive Order 13771 directs agencies to categorize all impacts which generate or alleviate costs associated with regulatory burden and to determine the actions net incremental effect.

Section 3(f) of Executive Order 12866 defines a “significant regulatory action” as an action that is likely to result in a rule: (1) Having an annual effect on the economy of $100 million or more in any 1 year, or adversely and materially affecting a sector of the economy, productivity, competition, jobs, the environment, public health or safety, or State, local or Tribal governments or communities (also referred to as “economically significant”); (2) creating a serious inconsistency or otherwise interfering with an action taken or planned by another agency; (3) materially altering the budgetary impacts of entitlement grants, user fees, or loan programs or the rights and obligations of recipients thereof; or (4) raising novel legal or policy issues arising out of legal mandates, the President's priorities, or the principles set forth in the Executive Order.

A regulatory impact analysis (RIA) must be prepared for major rules with economically significant effects ($100 million or more in any 1 year). HHS submits that this final rule is not “economically significant” as measured by the $100 million threshold, and hence not a major rule under the Congressional Review Act. This rule has not been designated as a “significant regulatory action” under Executive Order 12866. Accordingly, this rule has not been reviewed by the Office of Management and Budget (OMB).

Executive Order 13771, titled “Reducing Regulation and Controlling Regulatory Costs,” was issued on January 30, 2017. HHS identifies this final rule as a deregulatory action (removing an obsolete rule from the Code of Federal Regulations). For the purposes of Executive Order 13771, this final rule is not a substantive rule; rather it is administrative in nature and provides no cost savings.

Executive Order 13777, titled “Enforcing the Regulatory Reform Agenda,” was issued on February 24, 2017. As required by Section 3 of this Executive Order, HHS established a Regulatory Reform Task Force (HHS Task Force). Pursuant to Section 3(d)(ii), the HHS Task Force evaluated this rulemaking and determined that these regulations are “outdated, unnecessary, or ineffective.” Following this finding, the HHS Task Force advised the HRSA Administrator to initiate this rulemaking to remove the obsolete regulations from the Code of Federal Regulations.

Regulatory Flexibility Act

This action will not have a significant economic impact on a substantial number of small entities. Therefore, the regulatory flexibility analysis provided for under the Regulatory Flexibility Act is not required.

Paperwork Reduction Act

This action does not affect any information collections.

Dated: June 4, 2018.
George Sigounas,
Administrator, Health Resources and Services Administration.
Approved: June 21, 2018.
Alex M. Azar II,
Secretary, Department of Health and Human Services.

List of Subjects in 42 CFR Part 5a

Health care, Health care professionals, Public health, Rural health.

PART 5a—[REMOVED]

For reasons set out in the preamble, and under the authority at 5 U.S.C. 301, HHS amends 42 CFR chapter I by removing part 5a.

[FR Doc. 2018-13835 Filed 6-26-18; 8:45 am]

BILLING CODE 4165-15-P